GENERAL SERVICES ADMINISTRATION

41 CFR Part 102-37

[FMR Amendment 2006-01; FMR Case 2006-102-2]

RIN 3090-AI25

Federal Management Regulation; Donation of Surplus Personal Property

AGENCY: Office of Governmentwide Policy, General Services Administration (GSA).

ACTION: Final rule.

SUMMARY: The General Services Administration is amending the Federal Management Regulation (FMR) language that pertains to personal property by correcting references to outdated or superceded provisions of law or regulation; correcting text to be in conformance with revised laws, regulation, or Federal agency responsibilities; and clarifying text where the intended meaning could be updated or made clearer. The FMR and any corresponding documents may be accessed at GSA's Web site at http://www.gsa.gov/fmr.

DATES: Effective Date: May 25, 2006.

FOR FURTHER INFORMATION CONTACT: The Regulatory Secretariat, Room 4035, GSA Building, Washington, DC 20405, (202) 208-7312, for information pertaining to status or publication schedules. For clarification of content, contact Mr. Robert Holcombe, Office of Governmentwide Policy, Office of Travel, Transportation, and Asset Management (MT), at (202) 501-3828 or e-mail at Robert.Holcombe@gsa.gov. Please cite FMR case 2006-102-2, Amendment 2006-01.

SUPPLEMENTARY INFORMATION:

A. Background

In the years since 41 CFR part 102-37 was published as a final rule, the references to other regulations which migrated from the Federal Property Management Regulations (FPMR) (41 CFR chapter 101) to the Federal Management Regulation (FMR) (41 CFR chapter 102) became outdated. Also, Public Law 107-217 revised and recodified certain provisions of the Federal Property and Administrative Services Act of 1949 (Property Act). For example, the Property Act provisions and topics previously found at 40 U.S.C. 471-514 will now generally be found at 40 U.S.C. 101-705. This revised regulation updates the title 40 U.S.C. citations to reflect the changes made by Public Law 107-217. Additionally, in the intervening years since these three regulations were published, several agencies have moved or changed names. Finally, updating or clarifying revisions were made where the revisions are seen as administrative or clerical in nature. This includes—

1. Elimination of the requirement for a biennial report to Congress on the donation of Federal surplus personal property (obsolete because of section 3003 of the Federal Reports Elimination and Sunset Act of 1995 (31 U.S.C. 1113 note)); and

2. A revised threshold for audits made under OMB Circular A-133.

B. Executive Order 12866

The General Services Administration (GSA) has determined that this final rule is not a significant regulatory action for the purposes of Executive Order 12866.

C. Regulatory Flexibility Act

This final rule is not required to be published in the Federal Register for comment. Therefore, the Regulatory Flexibility Act does not apply.

D. Paperwork Reduction Act

The Paperwork Reduction Act does not apply because the changes to the FMR do not impose information collection requirements that require the approval of the Office of Management and Budget under 44 U.S.C. 3501, et seq.

E. Small Business Regulatory Enforcement Fairness Act

This final rule is exempt from Congressional review under 5 U.S.C. 801 since it relates solely to agency management and personnel.

List of Subjects in 41 CFR Part 102-37

Government property management, Reporting and recordkeeping requirements, Surplus government property, and Government property.

Dated: April 10, 2006.
David L. Bibb,
Acting Administrator of General Services.

For the reasons set forth in the preamble, GSA amends 41 CFR part 102-37 as set forth below:

1. The authority citation for 41 CFR part 102-37 continues to read as follows:

PART 102-37—DONATION OF SURPLUS PERSONAL PROPERTY

Authority: 40 U.S.C. 549 and 121(c).

§ 102-37.10 [Amended]

2. Amend § 102-37.10 by removing “Subsection 203(j)(1) of the Federal Property and Administrative Services Act of 1949 (40 U.S.C. 484(j)(1)), as amended (the Property Act)” and adding “Section 549 of title 40, United States Code” in its place.

§ 102-37.25 [Amended]

3. Amend § 102-37.25 by removing the definition “Property Act”; and in the definition “State agency for surplus property (SASP)” by removing “subsection 203(j) of the Property Act (40 U.S.C. 484(j))” and adding “40 U.S.C. 549” in its place.

§ 102-37.80 [Amended]

4. Amend § 102-37.80 by removing “part 101-45 of this title” and adding “part 102-38 of this chapter” in its place.

§ 102-37.105 [Removed]

5. Remove § 102-37.105

§ 102-37.125 [Amended]

6. Amend § 102-37.125 in paragraph (a)(4), by removing “40 U.S.C. 484(r)” and adding “40 U.S.C. 555” in its place.

§ 102-37.145 [Amended]

7. Amend § 102-37.145 in paragraph (c) by removing “subsection 203(j)(4) of the Property Act (40 U.S.C. 484(j))” and adding “40 U.S.C. 549(e)” in its place.

§ 102-37.150 [Amended]

8. Amend § 102-37.150 by removing from the first sentence “subsection 203(j)(4) of the Property Act (40 U.S.C. 484(j))”“ and adding “40 U.S.C. 549(e)”in its place; and by removing from the last sentence “the Property Act” and adding “title 40 of the United States Code” in its place.

§ 102-37.200 [Amended]

9. Amend § 102-37.200 in paragraph (a) by removing “subsection 203(j) of the Property Act (40 U.S.C. 484(j))” and adding “40 U.S.C. 549” in its place.

§ 102-37.205 [Amended]

10. Amend § 102-37.205 by-

a. Removing from paragraph (a) “section 203(j) of the Property Act (40 U.S.C. 484(j))” and adding “40 U.S.C. 549” in its place; and

b. Removing from paragraph (f) “part 101-6, subpart 101-6.2, and part 101-8 of this title”and adding “parts 101-4, subparts 101-6.2, and 101-8.3 of this title” in its place.

§ 102-37.325 [Amended]

11. Amend § 102-37.325 by removing from the introductory paragraph “Section 203(n) of the Property Act (40 U.S.C. 484(n)” and adding “Section 549(f) of title 40, United States Code” in its place.

§ 102-37.345 [Amended]

12. Amend § 102-37.345 by removing “$300,000” and adding “$500,000” in its place.

§ 102-37.350 [Amended]

13. Amend § 102-37.350 by removing “General Accounting Office” and adding “Government Accountability Office” in its place.

§ 102-37.355 [Amended]

14. Amend § 102-37.355 by removing “$300,000” (twice) and adding “$500,000” in its place.

§ 102-37.380 [Amended]

15. Amend § 102-37.380 by—

a. Removing from paragraph (a) “Subsection 203(j)(2) of the Property Act (40 U.S.C. 484(j)(2))” and adding “Section 549(d) of title 40, United States Code” in its place; and

b. Removing from paragraph (b) “Subsection 203(j) of the Property Act (40 U.S.C. 484(j)(3))” and adding “Section 549(c)(3) of title 40, United States Code” in its place.

§ 102-37.445 [Amended]

16. Amend § 102-37.445, by removing from paragraph (d) “section 606 of title VI of the Federal Property and Administrative Services Act of 1949 (40 U.S.C. 476), as amended” and adding “section 122 of title 40, United States Code” in its place.

§ 102-37.455 [Amended]

17. Amend § 102-37.455 by—

a. Removing from the table in paragraph (a)(1) “Part 101-37, subpart 101-37.6, of this title”and adding “Part 102-33, subpart D, of this chapter” in its place; and

b. Removing from paragraph (b)(1) “Bureau of Alcohol, Tobacco, and Firearms (BATF), Department of the Treasury” and adding “Bureau of Alcohol, Tobacco, Firearms and Explosives (ATF), Department of Justice” in its place; and by removing from the second sentence “BATF” and adding “ATF” in its place.

§ 102-37.520 [Amended]

18. Amend § 102-37.520 by removing “41 U.S.C. 47102” and adding “49 U.S.C. 47102” in its place.

§ 102-37.540 [Amended]

19. Amend § 102-37.540 by removing “Subsection 203(l) of the Property Act (40 U.S.C. 484(l))” and adding “Section 551 of title 40, United States Code” in its place.

§ 102-37.565 [Amended]

20. Amend § 102-37.565 by removing “Subsection 202(h) of the Property Act (40 U.S.C. 483(h))” and adding “Section 527 of title 40, United States Code” in its place.

Appendix C to Part 102—[Amended]

21. Amend Appendix C in the definition “Nationally recognized accrediting agency” by removing “http://www.ed.gov/offices/OPE/accreditation/index.html” and adding “http://www.ed.gov/admins/finaid/accred” in its place.

[FR Doc. 06-3881 Filed 4-24-06; 8:45 am]

BILLING CODE 6820-14-S